DEPARTMENT OF AGRICULTURE

Commodity Credit Corporation

7 CFR Parts 1412 and 1437

[Docket No. CCC-2019-0005; Docket ID FSA-2019-0008]

RIN 0560-AI45; 0560-AI48

Agriculture Risk Coverage and Price Loss Coverage Programs and Noninsured Crop Assistance Program; Correction

AGENCY: Commodity Credit Corporation and Farm Service Agency, USDA.

ACTION: Correcting amendment.

SUMMARY: This document corrects regulations that were published in the Federal Register on September 3, 2019, and March 2, 2020. The rules revised the Agriculture Risk Coverage (ARC) and Price Loss Coverage (PLC) Programs and Noninsured Crop Assistance Program (NAP) to implement changes required by the Agriculture Improvement Act of 2018 (the 2018 Farm Bill). There were errors in three of the definitions in ARC and PLC program rule. The Commodity Credit Corporation (CCC) is also correcting one sentence in the NAP rule.

DATES: Effective March 23, 2020.

FOR FURTHER INFORMATION CONTACT: Mary Ann Ball; telephone: (202) 720-4283, email address: maryann.ball@usda.gov. Persons with disabilities who require alternative means for communication should contact the USDA Target Center at (202) 720-2600 (voice only).

SUPPLEMENTARY INFORMATION:

Correcting Amendment to Regulations

The ARC and PLC final rule was published in the Federal Register on September 3, 2019 (84 FR 45877-45895). CCC made an error in the definitions of “ARC guarantee,” “Benchmark revenue for ARC-IC,” and “Temperate japonica rice” in the final rule. In the definition for ARC guarantee, the phrase “86 percent of the benchmark revenue” was removed the first time it appeared in the definition, but it should have been specified as the second occurrence in the definition that was no longer needed. In the definition for Benchmark revenue for ARC-IC, there was a typo. In the definition of Temperate japonica rice, paragraph (2) needed to be changed to be consistent with section 1106 of the 2018 Farm Bill. This rule corrects those errors.

The NAP final rule was published in the Federal Register on March 2, 2020 (85 FR 12213-12221). The last sentence needs to be revised in § 1437.8(a) in NAP regulation.

List of Subjects

7 CFR Part 1412

Cotton, Feed grains, Oilseeds, Peanuts, Price support programs, Reporting and recordkeeping requirements, Rice, Soil conservation, Wheat.

7 CFR Part 1437

Acreage allotments, Agricultural commodities, Crop insurance, Disaster assistance, Fraud, Penalties, Reporting and recordkeeping requirements.

For the reasons discussed above, CCC corrects 7 CFR parts 1412 and 1437 as follows:

PART 1412—AGRICULTURE RISK COVERAGE, PRICE LOSS COVERAGE, AND COTTON TRANSITION ASSISTANCE PROGRAMS

1. The authority citation for part 1412 continues to read as follows:

Authority: 7 U.S.C. 1508b, 7911-7912, 7916, 8702, 8711-8712, 8751-8752, and 15 U.S.C. 714b and 714c.

Subpart D—ARC and PLC Contract Terms and Enrollment Provisions for Covered Commodities

2. Amend § 1412.3 as follows:

a. Revise the definition of “ARC guarantee”;

b. In the definition of “Benchmark revenue for ARC-IC”, remove the word “allcovered” and add the words “all covered” in its place; and

c. In the definition of “Temperate japonica rice”, revise paragraph (2).

The revisions read as follows:

§ 1412.3 Definitions.

* * * * *

ARC guarantee is calculated for a crop year for a covered commodity, and is equal to 86 percent of the benchmark revenue for ARC-CO and ARC-IC, as defined in this part.

* * * * *

Temperate japonica rice * * *

(2) Establishment of a reference price equal to the medium grain rice reference price multiplied by the ratio obtained by dividing:

(i) The simple average of the marketing year average price of medium grain rice from the 2012 through 2016 crop years, by

(ii) The simple average of the marketing year average price of all rice from the 2012 through 2016 crop years; and

* * * * *

PART 1437—NONINSURED CROP DISASTER ASSISTANCE PROGRAM

3. The authority citation for part 1437 continues to read as follows:

Authority: 7 U.S.C. 1501-1508 and 7333; 15 U.S.C. 714-714m; 19 U.S.C. 2497, and 48 U.S.C. 1469a.

Subpart A—General Provisions

4. Amend § 1437.8 by revising the last sentence in paragraph (a) introductory text to read as follows:

§ 1437.8 Records.

(a) * * * Certifications must be accompanied by a record of production; records of production acceptable to FSA may include:

* * * * *

Robert Stephenson,
Executive Vice President, Commodity Credit Corporation.
In accordance:
Richard Fordyce,
Administrator, Farm Service Agency.

[FR Doc. 2020-05399 Filed 3-20-20; 8:45 am]

BILLING CODE 3410-05-P